DEPARTMENT OF HOMELAND SECURITY

Coast Guard

33 CFR Part 117

[Docket No. USCG-2014-0467]

Drawbridge Operation Regulation; Lake Washington Ship Canal, Seattle, WA

AGENCY: Coast Guard, DHS.

ACTION: Notice of deviation from drawbridge regulation.

SUMMARY: The Coast Guard has issued a temporary deviation from the operating schedule that governs the Washington Department of Transportation (WSDOT) Montlake Bridge across the Lake Washington Ship Canal, mile 5.2, at Seattle, WA. This deviation allows the bridge to remain in the closed position to accommodate the safe movement of “Rock and Roll Run” event participants.

DATES: This deviation is effective from 11 a.m. to 2 p.m. on June 21, 2014.

ADDRESSES: The docket for this deviation, [USCG-2014-0467] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Steven Fischer, Bridge Administrator, Thirteenth Coast Guard District; telephone 206-220-7282, email Steven.M.Fischer3@uscg.mil. If you have questions on viewing the docket, call Cheryl Collins, Program Manager, Docket Operations, telephone 202-366-9826.

SUPPLEMENTARY INFORMATION: The WSDOT requested a temporary deviation from the operating schedule for the Montlake Bridge across the Lake Washington Ship Canal, mile 5.2, at Seattle, WA. The requested deviation is necessary to accommodate safe movement of “Rock and Roll Run” event participants. This deviation allows the Montlake Bridge across the Lake Washington Ship Canal, mile 5.2, at Seattle, WA to remain in the closed position and need not open for vessel traffic from 11 a.m. to 2 p.m. on June 21, 2014. Vessels which do not require bridge openings may continue to transit beneath the bridge during the closure period.

The Montlake Bridge crosses the Lake Washington Ship Canal at mile 5.2 and while in the closed position provides 30 feet of vertical clearance throughout the navigation channel and 46 feet of vertical clearance throughout the center 60-feet of the bridge; vertical clearance referenced to the Mean Water Level of Lake Washington. Vessels which do not require a bridge opening may continue to transit beneath the bridge during this closure period. Under normal conditions this bridge opens on signal, subject to the list of exceptions provided in 33 CFR 117.1051(e). This deviation period is from 9 a.m. to 2 p.m. June 21, 2014. Waterway usage on the Lake Washington Ship Canal ranges from commercial tug and barge to small pleasure craft. Mariners will be notified and kept informed of the bridges' operational status via the Coast Guard Notice to Mariners publication and Broadcast Notice to Mariners as appropriate. The bridge will be required to open, if needed, for vessels engaged in emergency response operations during this closure period.

In accordance with 33 CFR 117.35(e), the drawbridge must return to its regular operating schedule immediately at the end of the designated time period. This deviation from the operating regulations is authorized under 33 CFR 117.35.

Dated: June 6, 2014.
Steven M. Fischer,
Bridge Administrator, Thirteenth Coast Guard District.

[FR Doc. 2014-14174 Filed 6-16-14; 8:45 am]

BILLING CODE 9110-04-P